DEPARTMENT OF THE INTERIOR

Bureau of Indian Affairs

Final Environmental Impact Statement for the Cowlitz Indian Tribe's Proposed 151.87-Acre Fee-to-Trust Transfer, Reservation Proclamation, and Casino-Resort Project, Clark County, WA

AGENCY: Bureau of Indian Affairs, Interior.

ACTION: Notice.

SUMMARY: This notice advises the public that the Bureau of Indian Affairs (BIA) as lead agency, with the Cowlitz Indian Tribe (Tribe), National Indian Gaming Commission (NIGC), Federal Highway Administration, U.S. Army Corps of Engineers, Washington Department of Transportation, Clark County, Clark County Sheriff's Office, Cowlitz County, City of La Center, City of Vancouver, City of Ridgefield, Port of Ridgefield, City of Woodland and City of Battle Ground as cooperating agencies, intends to file a Final Environmental Impact Statement (FEIS) with the U.S. Environmental Protection Agency for the Tribe's proposed 151.87-acre fee-to-trust transfer, reservation proclamation, and casino-resort project in Clark County, Washington. The proposed action would include approval by the NIGC of a gaming management contract. The FEIS is now available to the public and is part of the administrative process that evaluates tribal applications that seek to have the United States take land into trust pursuant to 25 U.S.C. 465, 25 CFR part 151, and 25 U.S.C. 2719(b)(1)(B).

DATES: The Record of Decision on the proposed action will be issued on or after July 1, 2008. Any comments on the FEIS must arrive by June 30, 2008.

ADDRESSES: You may mail or hand carry written comments to Mr. Stanley Speaks, Northwest Regional Director, Bureau of Indian Affairs, Northwest Region, 911 NE. 11th Avenue, Portland, Oregon 97232. Please include your name, return address and the caption, “FEIS Comments, Cowlitz Indian Tribe Trust Acquisition and Casino Project,” on the first page of your written comments.

The FEIS will be available for public review at the following Fort Vancouver Public Library branches: La Center Community Library, 1402 East Lockwood Creek Road, La Center, Washington 98629; Ridgefield Community Library, 210 North Main Avenue, Ridgefield, Washington 98642. General information for the Fort Vancouver Public Library system can be obtained by calling (360) 695-1561. The FEIS is also available on the following Web site: http://www.cowlitzeis.org.

To obtain copies of the FEIS, please provide your name and address in writing or by voicemail to Dr. B.J. Howerton, Environmental Protection Specialist, at the BIA address above or at the telephone number provided below.

FOR FURTHER INFORMATION CONTACT: B.J. Howerton, (503) 231-6749.

SUPPLEMENTARY INFORMATION: The Tribe has requested that the BIA take 151.87 acres into trust on behalf of the Tribe, on which the Tribe proposes to develop a casino-resort complex, parking facilities, recreational vehicle park, tribal headquarters, tribal elder housing, tribal cultural center, and wastewater treatment plant. The project site encompasses eight contiguous tax lots in Clark County, Washington, near the cities of La Center and Ridgefield. Regional access to the project site is provided via Interstate 5 at the NW. 319th Street Interchange. NW. 319th Street would provide primary access to the casino-resort complex and tribal government facilities. The street, however, would be realigned to a more southerly location within the proposed project site to allow development of the casino and hotel facilities north of NW. 319th Street without encroachment into wetlands and wetland buffer areas.

Project alternatives considered in the FEIS include: (1) Preferred casino-resort complex; (2) preferred casino-resort complex without re-routing NW. 319th Street; (3) reduced intensity complex; (4) business park; (5) casino-resort complex at the Ridgefield Interchange Site; and (6) no action. The alternatives are intended to assist the review of the issues presented, but the Preferred Alternative does not necessarily reflect what the final decision will be, because a complete evaluation of the criteria listed in 25 CFR Part 151 may lead to a final decision that selects an alternative other than the Preferred Alternative, including no action, or that selects a variant of the Preferred Alternative or another of the alternatives analyzed in the FEIS.

Environmental issues addressed in the FEIS include geology and soils, water resources, air quality, biological resources, cultural and paleontological resources, socioeconomic conditions (including environmental justice), transportation and circulation, land use, public services, noise, hazardous materials, aesthetics, cumulative effects, indirect effects and mitigation measures.

The BIA has afforded other government agencies and the public extensive opportunity to participate in the preparation of this EIS. The BIA published a notice of intent to prepare the EIS for the proposed action in the Federal Register on November 12, 2004 (69 FR 43431). The BIA held a public scoping meeting on December 1, 2004, in the City of Vancouver. A Notice of Availability for the Draft EIS was published in the Federal Register on April 14, 2006 (71 FR 10055). The Draft EIS was available for public comment from April 14 to July 14, 2006. In response to public requests, the comment period was re-opened from August 4 to August 25, 2006, for a total public comment period of 145 days. The BIA held two public hearings on the Draft EIS, one on June 14, 2006, and one on June 15, 2006, in the City of Vancouver.

Public Comment Availability

Comments, including names and addresses of respondents, will be available for public review at the mailing address shown in the ADDRESSES section, during regular business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality Regulations (40 CFR Parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: May 21, 2008.
Carl J. Artman,
Assistant Secretary—Indian Affairs.

[FR Doc. E8-12105 Filed 5-29-08; 8:45 am]

BILLING CODE 4310-W7-P